DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for date sanctions become effective.

FOR FURTHER INFORMATION CONTACT: OFAC: Associate Director for Global Targeting, tel.: 202-622-2420; Assistant Director for Sanctions Compliance & Evaluation, tel.: 202-622-2490; or the Assistant Director for Licensing, tel.: 202-622-2480.

SUPPLEMENTARY INFORMATION:

Electronic Availability

The SDN List and additional information concerning OFAC sanctions programs are available on OFAC's website (www.treas.gov/ofac).

Notice of OFAC Actions

On September 3, 2020, OFAC determined that the property and interests in property subject to U.S. jurisdiction of the following person are blocked under the relevant sanctions authorities listed below.

Entities

1. ZAGROS PETROCHEMICAL (a.k.a. “ZPC”), North Sheikh Bahaie Avenue Sheida Alley, Khoddami Street, Vanak Square, Tehran, Iran; Additional Sanctions Information—Subject to Secondary Sanctions; Chamber of Commerce Number 2869 (Iran); Registration Number 148344 (Iran) [IRAN-EO13846] (Linked To: TRILIANCE PETROCHEMICAL CO. LTD.).

Designated pursuant to section 1(a)(iii)(B) of Executive Order 13846 of August 6, 2018, 83 FR 38939, 3 CFR, 2019 Comp., p. 854 (E.O. 13846), for, on or after November 5, 2018, having materially assisted, sponsored, or provided financial, material, or technological support for, or goods or services to or in support of, TRILIANCE PETROCHEMICAL CO. LTD.

2. TRIO ENERGY DMCC, Jumeirah Lake Towers Unit 2903, SABA 1 Tower, Plot JLT-PH1-E3A, Dubai, United Arab Emirates; License DMCC564257 (United Arab Emirates) [IRAN-EO13846] (Linked To: TRILIANCE PETROCHEMICAL CO. LTD.).

Designated pursuant to section 1(a)(iii)(B) of E.O. 13846, for, on or after November 5, 2018, having materially assisted, sponsored, or provided financial, material, or technological support for, or goods or services to or in support of, TRILIANCE PETROCHEMICAL CO. LTD.

3. JINGHO TECHNOLOGY CO. LIMITED, Hong Kong; Business Registration Number 2088397 (Hong Kong) [IRAN-EO13846] (Linked To: TRILIANCE PETROCHEMICAL CO. LTD.).

Designated pursuant to section 1(a)(iii)(B) of E.O. 13846, for, on or after November 5, 2018, having materially assisted, sponsored, or provided financial, material, or technological support for, or goods or services to or in support of, TRILIANCE PETROCHEMICAL CO. LTD.

4. DYNAPEX ENERGY LIMITED (f.k.a. SINGH DAILY CULTURE PRESS LIMITED; f.k.a. SINGH SCIENCE AND TECHNOLOGY DEVELOPMENT CO., LIMITED), Flat/Rm 1105 11/F, Hua Qin International Building, 340 Queen's Road Central, Hong Kong; Business Registration Number 2066820 (Hong Kong) [IRAN-EO13846] (Linked To: TRILIANCE PETROCHEMICAL CO. LTD.).

Designated pursuant to section 1(a)(iii)(B) of E.O. 13846, for, on or after November 5, 2018, having materially assisted, sponsored, or provided financial, material, or technological support for, or goods or services to or in support of, TRILIANCE PETROCHEMICAL CO. LTD.

5. PETROTECH FZE, Office Number E, 16f 35, LOB P2 E, Hamriyah Free Zone, Sharjah, United Arab Emirates [IRAN-EO13846] (Linked To: TRILIANCE PETROCHEMICAL CO. LTD.).

Designated pursuant to section 1(a)(iii)(B) of E.O. 13846, for, on or after November 5, 2018, having materially assisted, sponsored, or provided financial, material, or technological support for, or goods or services to or in support of, TRILIANCE PETROCHEMICAL CO. LTD.

6. DINRIN LIMITED, Hong Kong; Business Registration Number 2849056 (Hong Kong) [IRAN-EO13846] (Linked To: ZAGROS PETROCHEMICAL).

Designated pursuant to section 1(a)(iii)(B) of E.O. 13846, for, on or after November 5, 2018, having materially assisted, sponsored, or provided financial, material, or technological support for, or goods or services to or in support of, ZAGROS PETROCHEMICAL.

Dated: September 3, 2020.
Andrea M. Gacki,
Director, Office of Foreign Assets Control.

[FR Doc. 2020-19892 Filed 9-24-20; 8:45 am]

BILLING CODE 4810-AL-P